LEGAL SERVICES CORPORATION

45 CFR Part 1611

Income Level for Individuals Eligible for Assistance

AGENCY: Legal Services Corporation.

ACTION: Final rule.

SUMMARY: The Legal Services Corporation (LSC) is required by law to establish maximum income levels for individuals eligible for legal assistance. This document updates the specified income levels to reflect the annual amendments to the Federal Poverty Guidelines issued by the U.S. Department of Health and Human Services (HHS).

DATES: Effective January 28, 2025.

FOR FURTHER INFORMATION CONTACT: Stefanie K. Davis, Deputy General Counsel and Ethics Officer, Legal Services Corporation, 1825 I St. NW, Washington, DC 20006; (202) 295-1563; sdavis@lsc.gov.

SUPPLEMENTARY INFORMATION: Section 1007(a)(2) of the Legal Services Corporation Act (Act), 42 U.S.C. 2996f(a)(2), requires LSC to establish maximum income levels for individuals eligible for legal assistance. Section 1611.3(c) of LSC's regulations establishes a maximum income level equivalent to 125% of the Federal Poverty Guidelines (Guidelines), which HHS is responsible for updating and issuing. 45 CFR 1611.3(c).

Each year, LSC updates appendix A to 45 CFR part 1611 to provide client income eligibility standards based on the most recent Guidelines. The figures for 2025, set out below, are equivalent to 125% of the Guidelines published by HHS on January 17, 2025.

In addition, LSC is publishing a chart listing income levels that are 200% of the Guidelines. This chart is for reference purposes only as an aid to recipients in assessing the financial eligibility of an applicant whose income is greater than 125% of the applicable Guidelines amount, but less than 200% of the applicable Guidelines amount (and who may be found to be financially eligible under duly adopted exceptions to the annual income ceiling in accordance with 45 CFR 1611.3, 1611.4, and 1611.5).

Except where there are minor variances due to rounding, the amount by which the guideline increases for each additional member of the household is a consistent amount.

List of Subjects in 45 CFR Part 1611

Grant programs—law, Legal services.

For reasons set forth in the preamble, the Legal Services Corporation amends 45 CFR part 1611 as follows:

PART 1611—ELIGIBILITY

1. The authority citation for part 1611 continues to read as follows:

Authority: 42 U.S.C. 2996g(e).

2. Revise appendix A to part 1611 to read as follows:

Appendix A to Part 1611—Income Level for Individuals Eligible for Assistance

Legal Services Corporation 2025 Income Guidelines *
Size of household | 48 Contiguous states and the District of Columbia | Alaska | Hawaii
1 | $19,563 | $24,438 | $22,488
2 | 26,438 | 33,038 | 30,400
3 | 33,313 | 41,638 | 38,313
4 | 40,188 | 50,238 | 46,225
5 | 47,063 | 58,838 | 54,138
6 | 53,938 | 67,438 | 62,050
7 | 60,813 | 76,038 | 69,963
8 | 67,688 | 84,638 | 77,875
For each additional member of the household in excess of 8, add: | 6,875 | 8,600 | 7,913
* The figures in this table represent 125% of the Federal Poverty Guidelines by household size as determined by HHS.

Reference Chart—200% of Federal Poverty Guidelines *
Size of household | 48 Contiguous States and the District of Columbia | Alaska | Hawaii
1 | $31,300 | $39,100 | $ 35,980
2 | 42,300 | 52,860 | 48,640
3 | 53,300 | 66,620 | 61,300
4 | 64,300 | 80,380 | 73,960
5 | 75,300 | 94,140 | 86,620
6 | 86,300 | 107,900 | 99,280
7 | 97,300 | 121,660 | 111,940
8 | 108,300 | 135,420 | 124,600
For each additional member of the household in excess of 8, add: | 11,000 | 13,760 | 12,660
* The figures in this table represent 200% of the Federal Poverty Guidelines by household size as determined by HHS.

(Authority: 42 U.S.C. 2996g(e).)

Dated: January 22, 2025.
Stefanie Davis,
Deputy General Counsel and Ethics Officer, Legal Services Corporation.

[FR Doc. 2025-01789 Filed 1-27-25; 8:45 am]

BILLING CODE P